DEPARTMENT OF COMMERCE

National Oceanic and Atmospheric Administration

RIN 0648-XW33

Endangered and Threatened Species; Take of Anadromous Fish

AGENCY: NOAA's National Marine Fisheries Service (NMFS), National Oceanic and Atmospheric Administration (NOAA), U. S. Department of Commerce.

ACTION: Notice of receipt of a permit application; request for comments.

SUMMARY: Notice is hereby given that NMFS has received an application for a permit to conduct research for scientific purposes from the Resource Conservation District of the Santa Monica Mountains (RCD), in southern California. The requested permit would affect the endangered Southern California (SC) Distinct Population Segment (DPS) of steelhead (Oncorhynchus mykiss). The public is hereby notified of the availability of the permit application for review and comment before NMFS either approves or disapproves the application.

DATES: Written comments on the permit application must be received at the appropriate address or fax number (see ADDRESSES) on or before June 7, 2010.

ADDRESSES: Written comments on the permit application should be sent to Matt McGoogan, Protected Resources Division, NMFS, 501 W. Ocean Blvd., Suite 4200, Long Beach, California 90802. Comments may also be sent using email (FRNpermits.1b@noaa.gov) or fax (562.980.4027). The permit application is available for review, by appointment, at the foregoing address and is also available for review online at the Authorizations and Permits for Protected Species website at https://apps.nmfs.noaa.gov.

FOR FURTHER INFORMATION CONTACT: Matt McGoogan at phone number (562.980.4026) or e-mail: matthew.mcgoogan@noaa.gov

SUPPLEMENTARY INFORMATION:

Authority

Issuance of permits, as required by the Endangered Species Act of 1973 (16 U.S.C. 1531B1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222B226).

Those individuals requesting a hearing on an application listed in this notice should provide the specific reasons why a hearing on that application would be appropriate (see ADDRESSES). The holding of such a hearing is at the discretion of the Assistant Administrator for Fisheries, NOAA. All statements and opinions contained in the permit action summaries are those of the applicant and do not necessarily reflect the views of NMFS.

Permit Application Received

The RCD has applied for a permit (permit 15390) to study the endangered SC DPS of steelhead (Oncorhynchus mykiss) in streams emptying to the Santa Monica Bay of southern California, with specific focus on Topanga Creek, Arroyo Sequit, and Malibu Creek. The purpose of this study is to use monitoring methods to gather information that will contribute to the understanding of migration patterns, diet, and the abundance and distribution of steelhead in the subject streams. Monitoring methods include using direct underwater observation techniques for estimating abundance and distribution of steelhead, migratory trapping, and Passive Integrated Transponder (PIT) tagging. Sampling methods to obtain steelhead for abundance counts and PIT tagging may include hand nets, seine nets, angling, fyke traps, and electrofishing. Field activities will occur between June 2010 and December 2020. The RCD has requested an annual non-lethal take of 1150 juvenile steelhead, 100 smolts, and 10 adult steelhead as well as an annual collection and possession of up to 950 steelhead tissue samples and 10 steelhead carcasses. The 100 smolts and up to 850 juvenile steelhead (depending on size) could be processed for PIT tags. Adult steelhead may be captured in fyke traps, but will be released without being PIT tagged. Gastric lavage would be performed on up to 30 juvenile steelhead to gather information on feeding habits and diet. The unintentional lethal take that may occur as a result of research activities on Topanga and Malibu creeks is up to 36 juvenile steelhead annually. No lethal take of adult steelhead is expected or authorized with this research permit.

Dated: May 4, 2010.
Therese Conant,
Acting Chief, Endangered Species Division, Office of Protected Resources, National Marine Fisheries Service.

[FR Doc. 2010-10856 Filed 5-6-10; 8:45 am]

BILLING CODE 3510-22-S